DEPARTMENT OF ENERGY

Federal Energy Regulatory Commission

Combined Notice of Filings #1

Take notice that the Commission received the following electric corporate filings:

Docket Numbers: EC15-116-000.

Applicants: Lone Valley Solar Park I, LLC, Lone Valley Solar Park II, LLC.

Description: Application for Authorization for Disposition of Jurisdictional Facilities and Request for expedited action of Lone Valley Solar Park I, LLC, et. al.

Filed Date: 4/8/15.

Accession Number: 20150408-5202.

Comments Due: 5 p.m. ET 4/29/15.

Docket Numbers: EC15-117-000.

Applicants: BHE Geothermal, LLC, Saranac Power Partners, LP,TIFD III-A, Inc.

Description: Joint Application for Authorization under Section 203 of the Federal Power Act and Request for Confidential Treatment of BHE Geothermal, LLC, et al.

Filed Date: 4/8/15.

Accession Number: 20150408-5206.

Comments Due: 5 p.m. ET 4/29/15.

Take notice that the Commission received the following electric rate filings:

Docket Numbers: ER10-2719-021; ER10-2718-021; ER10-2633-019; ER10-2570-019; ER10-2717-019; ER10-3140-018; ER13-55-009.

Applicants: East Coast Power Linden Holding, LLC, Cogen Technologies Linden Venture, LP, Birchwood Power Partners, LP, Shady Hills Power Company, LLC, EFS Parlin Holdings, LLC, Inland Empire Energy Center, LLC, Homer City Generation, LP.

Description: Notice of Non-Material Change in Status of the GE Companies.

Filed Date: 4/9/15.

Accession Number: 20150409-5149.

Comments Due: 5 p.m. ET 4/30/15.

Docket Numbers: ER12-1308-006.

Applicants: Palouse Wind, LLC.

Description: Notice of Non-Material Change in Status of Palouse Wind, LLC.

Filed Date: 4/9/15.

Accession Number: 20150409-5096.

Comments Due: 5 p.m. ET 4/30/15.

Docket Numbers: ER15-1146-001.

Applicants: Bucksport Mill, LLC.

Description: Compliance filing per 35: Bucksport Mill, LLC supplement 2015-04-09 to be effective 4/9/2015.

Filed Date: 4/9/15.

Accession Number: 20150409-5098.

Comments Due: 5 p.m. ET 4/30/15.

Docket Numbers: ER15-1147-001.

Applicants: Bucksport Generation, LLC.

Description: Compliance filing per 35: Bucksport Generation, LLC supplement 2015-04-09 to be effective 4/7/2015.

Filed Date: 4/9/15.

Accession Number: 20150409-5099.

Comments Due: 5 p.m. ET 4/30/15.

Docket Numbers: ER15-1476-000.

Applicants: Puget Sound Energy, Inc.

Description: § 205(d) rate filing per 35.13(a)(2)(iii): Blaine TX SA 785, 786, & 787 to be effective 3/1/2015.

Filed Date: 4/9/15.

Accession Number: 20150409-5001.

Comments Due: 5 p.m. ET 4/30/15.

Docket Numbers: ER15-1477-000.

Applicants: Illinois Municipal Electric Agency.

Description: Waiver Request of the Illinois Municipal Electric Agency.

Filed Date: 4/8/15.

Accession Number: 20150408-5216.

Comments Due: 5 p.m. ET 4/29/15.

Docket Numbers: ER15-1478-000.

Applicants: Niagara Mohawk Power Corporation, New York Independent System Operator, Inc.

Description: Tariff Withdrawal per 35.15: Cancellation of Agreement No. 1823 between NiMo and Athens to be effective 6/9/2015.

Filed Date: 4/9/15.

Accession Number: 20150409-5063.

Comments Due: 5 p.m. ET 4/30/15.

Docket Numbers: ER15-1479-000.

Applicants: Midcontinent Independent System Operator, Inc.

Description: § 205(d) rate filing per 35.13(a)(2)(iii): 2015-04-09_SA 2773 ATC-Adams-Columbia Common Facilities Agreement to be effective 6/9/2015.

Filed Date: 4/9/15.

Accession Number: 20150409-5102.

Comments Due: 5 p.m. ET 4/30/15.

Docket Numbers: ER15-1480-000.

Applicants: Midcontinent Independent System Operator, Inc.

Description: § 205(d) rate filing per 35.13(a)(2)(iii): 2015-04-09_SA 2774 ATC-City of Cedarburg Common Facilities Agreement to be effective 6/9/2015.

Filed Date: 4/9/15.

Accession Number: 20150409-5105.

Comments Due: 5 p.m. ET 4/30/15.

Docket Numbers: ER15-1481-000.

Applicants: Midcontinent Independent System Operator, Inc.

Description: § 205(d) rate filing per 35.13(a)(2)(iii): 2015-04-09_SA 2776 ATC-Village of Prairie du Sac CFA to be effective 6/9/2015.

Filed Date: 4/9/15.

Accession Number: 20150409-5106.

Comments Due: 5 p.m. ET 4/30/15.

Docket Numbers: ER15-1482-000.

Applicants: Midcontinent Independent System Operator, Inc.

Description: § 205(d) rate filing per 35.13(a)(2)(iii): 2015-04-09_SA 2777 ATC-City of Wisconsin Rapids CFA to be effective 6/9/2015.

Filed Date: 4/9/15.

Accession Number: 20150409-5107.

Comments Due: 5 p.m. ET 4/30/15.

Docket Numbers: ER15-1483-000.

Applicants: Midcontinent Independent System Operator, Inc.

Description: § 205(d) rate filing per 35.13(a)(2)(iii): 2015-04-09_SA 2775 ATC-Marshfield Common Facilities Agreement to be effective 6/9/2015.

Filed Date: 4/9/15.

Accession Number: 20150409-5116.

Comments Due: 5 p.m. ET 4/30/15.

Docket Numbers: ER15-1484-000.

Applicants: Midcontinent Independent System Operator, Inc.

Description: § 205(d) rate filing per 35.13(a)(2)(iii): 2015-04-09 Q1 Tariff Clean up Filing to be effective 4/10/2015.

Filed Date: 4/9/15.

Accession Number: 20150409-5139.

Comments Due: 5 p.m. ET 4/30/15.

Docket Numbers: ER15-1485-000.

Applicants: PJM Interconnection, LLC, Monongahela Power Company.

Description: § 205(d) rate filing per 35.13(a)(2)(iii): PJM and Monongahela Power submit Revised Service Agreement No. 3513 (HREA) to be effective 5/1/2015.

Filed Date: 4/9/15.

Accession Number: 20150409-5155.

Comments Due: 5 p.m. ET 4/30/15.

Docket Numbers: ER15-1486-000.

Applicants: PJM Interconnection, LLC.

Description: § 205(d) rate filing per 35.13(a)(2)(iii): Original Service Agreement No. 4113, Queue No. T182 to be effective 3/10/2015.

Filed Date: 4/9/15.

Accession Number: 20150409-5179.

Comments Due: 5 p.m. ET 4/30/15.

Take notice that the Commission received the following public utility holding company filings:

Docket Numbers: PH15-14-000.

Applicants: Consolidated Edison, Inc.

Description: Consolidated Edison, Inc. submits FERC 65-B Material Change in Facts of Waiver Notification.

Filed Date: 4/8/15.

Accession Number: 20150408-5215.

Comments Due: 5 p.m. ET 4/29/15.

Take notice that the Commission received the following qualifying facility filings:

Docket Numbers: QF15-616-000.

Applicants: CCI U.S. Asset Holdings, LLC.

Description: Form 556 of CCI U.S. Asset Holdings, LLC [CCI San Juan,LLC] under QF15-616.

Filed Date: 4/6/15.

Accession Number: 20150406-5199.

Comments Due: Non Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2015.
Nathaniel J. Davis, Sr.,
Deputy Secretary.

[FR Doc. 2015-08709 Filed 4-15-15; 8:45 am]

BILLING CODE 6717-01-P